DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety standards. The individual petition is described below, including the party seeking relief, the regulatory provisions involved, the nature of the relief being requested, and the petitioner's arguments in favor of relief.

Georgetown Loop Railroad

[Waiver Petition Docket Number FRA-2008-0107]

The Georgetown Loop Railroad (GLR), a narrow-gage tourist railroad, petitioned FRA for a waiver of compliance from certain provisions of the steam locomotive safety standards, as prescribed by 49 CFR Section 230.112 (Wheels and tires) and Section 230.113 (Wheels and tire defects) for one steam locomotive used in tourist/excursion service. Specifically, this waiver request applies to Locomotive Number GLR 12.

Locomotive Number GLR 12 was built in 1927 by Baldwin Locomotive Works (BLW), Philadelphia, PA, for the Kahului Railroad in Hawaii, and is a 36-inch narrow gage. The locomotive was used on a shortline in freight and passenger service until its retirement in the 1950s. It was subsequently sold to private individuals and moved to California to be used on various tourist/excursion trains. In the 1980s, a new boiler was installed and extensive repairs were made to the running gear. It was used frequently throughout the 1990s at the Silver Wood Amusement Park until its sale to the Colorado Historical Society in 2005, and was in service on GLR from 2005-2007.

By letter notification on April 7, 2008, FRA brought GLR under the agency's jurisdiction and the boiler is now compliant with the applicable requirements of 49 CFR Part 230. During an inspection of the entire locomotive, it was determined that the inside gage (back-to-back spacing) exceeds the safety limits set by FRA under 49 CFR Section 230.112(b). The actual measurements for the locomotive are 33½ inches wide. The allowable range under the regulation is 32½ to 32⅞ inches wide. The locomotive was built to BLW's narrow-gage standards, which allow wider back-to-back dimensions and narrower flange widths for narrow-gage engines. These alternate standard dimensions were primarily used in areas with prevalent sharp curves and poor track conditions. In addition to the wider back-to-back dimension used by Baldwin, a narrow flange width (new) that measures 1⅛ inches is used versus the 1¼-inch flange, which is the standard AAR narrow flange.

A second issue with GLR Number 12 pertains to the requirements of 49 CFR Section 230.113(g) regarding the minimum thickness of the tire's flange. The regulatory requirement for condemning a flange for insufficient width is 15/16 of an inch based upon a new thickness of 1¼ inches. Since the new flange thickness on GLR Number 12's flanges was 1⅛ inches, GLR requests that the condemning limit for this locomotive be 13/16 of an inch based upon the reduced initial width. GLR stated that they have safely operated this locomotive for several years without any wheel problems prior to coming under FRA's jurisdiction. GLR believes that there is no practical way to modify the chassis components to comply with the regulatory requirements as the basic design of the locomotive's brake and spring rigging and driving boxes will not allow the driving tires and wheels to be significantly modified.

In summary, GLR requests relief from the regulatory requirements of 49 CFR Sections 230.112 and 230.113 to allow GLR Number 12 to be maintained to BLW standards for narrow-gage locomotives, as stated above.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2008-0107) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.—5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC on April 15, 2009.
Grady C. Cothen, Jr.,
Deputy Associate Administrator for Safety Standards and Program Development.

[FR Doc. E9-9140 Filed 4-20-09; 8:45 am]

BILLING CODE 4910-06-P